NUCLEAR REGULATORY COMMISSION

Advisory Committee on Reactor Safeguards

In accordance with the purposes of Sections 29 and 182b of the Atomic Energy Act (42 U.S.C. 2039, 2232b), the Advisory Committee on Reactor Safeguards (ACRS) will hold a meeting on September 10-12, 2009, 11555 Rockville Pike, Rockville, Maryland. The date of this meeting was previously published in the Federal Register on Monday, October 6, 2008, (73 FR 58268-58269).

Thursday, September 10, 2009, Commissioners' Conference Room O-1F16, One White Flint North, Rockville, Maryland

8:30 a.m.-8:35 a.m.: Opening Remarks by the ACRS Chairman (Open)—The ACRS Chairman will make opening remarks regarding the conduct of the meeting.

8:35 a.m.-11 a.m.: License Renewal Application and Final Safety Evaluation Report (SER) for the Indian Point Nuclear Generating Units 2 and 3 (Open)—The Committee will hear presentations by and hold discussions with representatives of the NRC staff and Entergy Nuclear Operations, Inc., regarding the License Renewal Application for the Indian Point Generating Units 2 and 3, the associated NRC staff's final Safety Evaluation Report, and related matters.

11:15 a.m.-12:45 p.m.: License Renewal Application and Final Safety Evaluation Report for the Three Mile Island Nuclear Station, Unit 1 (Open)—The Committee will hear presentations by and hold discussions with representatives of the NRC staff and AmerGen Energy Company, LLC, regarding the license renewal application for the Three Mile Island Nuclear Station, Unit 1, the associated NRC staff's final SER, and related matters.

1:45 p.m.-3:15 p.m.: Draft Final Revision 2 to Regulatory Guide 1.189, “Fire Protection for Nuclear Power Plants” (Open)—The Committee will hear presentations by and hold discussions with representatives of the NRC staff regarding the draft final Revision 2 to Regulatory Guide 1.189, NRC staff's resolution of public comments, and related matters.

3:30 p.m.-5 p.m.; Draft Digital Instrumentation and Control (DI&C) Research Plan for Fiscal Years (FY) 2010-2014 (Open)—The Committee will hear presentations by and hold discussions with representatives of the NRC staff regarding draft DI&C Research Plan for FY2010-2014, and related matters.

5:15 p.m.-7 p.m.: Preparation of ACRS Reports (Open)—The Committee will discuss proposed ACRS reports on matters discussed during this meeting as well as the letter transmitting the ACRS report on the quality assessment of selected research projects.

Friday, September 11, 2009, Commissioners' Conference Room O-1F16, One White Flint North, Rockville, Maryland

8:30 a.m.-8:35 a.m.: Opening Remarks by the ACRS Chairman (Open)—The ACRS Chairman will make opening remarks regarding the conduct of the meeting.

8:35 a.m.-10 a.m.: Updated information related to the License Renewal Application and Supplemental SER for the Beaver Valley Power Station (Open)—The Committee will hear presentations by and hold discussions with representatives of the NRC staff and First Energy Nuclear Operating Company regarding the updated information related to the license renewal application for the Beaver Valley Power Station, the associated NRC staff's Supplemental SER, and related matters.

10:15 a.m.-11:30 a.m.: Subcommittee Reports (Open)—The Committee will hear reports by and hold discussions with the Chairmen of the ESBWR; AP1000; Plant Operations and Fire Protection; Evolutionary Power Reactor (EPR); and Reliability and PRA Subcommittees regarding: the resolution of containment issues associated with the ESBWR design certification and selected chapters of the draft SER associated with the North Anna Combined License (COL) application referencing the ESBWR design that were discussed on July 21-22, and August 21, 2009; selected chapters of the amended AP1000 Design Control Document and the Bellefonte COL application that were discussed on July 23-24, 2009; matters discussed during the visits to the Watts Bar Nuclear Plant and Region II Office on July 28 and July 30, 2009; draft final revision 1 to Regulatory Guide 1.205, “Risk-Informed, Performance-Based Fire Protection,” that was discussed during the meeting on August 18, 2009; and the containment topical report associated with the EPR design certification that was discussed on September 9, 2009, respectively.

12:30 p.m.-1:15 p.m.: Future ACRS Activities/Report of the Planning and Procedures Subcommittee (Open/Closed)—The Committee will discuss the recommendations of the Planning and Procedures Subcommittee regarding items proposed for consideration by the full Committee during future ACRS meetings, and matters related to the conduct of ACRS business, including anticipated workload and member assignments. [Note: A portion of this session may be closed pursuant to 5 U.S.C. 552b(c)(2) and (6) to discuss organizational and personnel matters that relate solely to internal personnel rules and practices of ACRS, and information the release of which would constitute a clearly unwarranted invasion of personal privacy]

1:15 p.m.-1:30 p.m.: Reconciliation of ACRS Comments and Recommendations (Open)—The Committee will discuss the responses from the NRC Executive Director for Operations to comments and recommendations included in recent ACRS reports and letters.

1:45 p.m.-7 p.m.: Preparation of ACRS Reports (Open)—The Committee will discuss proposed ACRS reports on matters discussed during this meeting as well as the letter transmitting the ACRS report on the quality assessment of selected research projects.

Saturday, September 12, 2009, Commissioners' Conference Room O-1F16, One

White Flint North, Rockville, Maryland

8:30 a.m.-1:30 p.m.: Preparation of ACRS Reports (Open)—The Committee will continue its discussion of proposed ACRS reports.

Procedures for the conduct of and participation in ACRS meetings were published in the Federal Register on October 6, 2008, (73 FR 58268-58269). In accordance with those procedures, oral or written views may be presented by members of the public, including representatives of the nuclear industry. Thirty-five hard copies of each presentation or handout should be provided to the Designated Federal Official 30 minutes before the meeting. In addition, one electronic copy of each presentation should be e-mailed to the Designated Federal Official one day before meeting. If an electronic copy cannot be provided within this timeframe, presenters should provide the Designated Federal Official with a CD containing each presentation at least 30 minutes before the meeting. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

In accordance with Subsection 10(d) Public Law 92-463, I have determined that it may be necessary to close a portion of this meeting noted above to discuss organizational and personnel matters that relate solely to internal personnel rules and practices of ACRS, and information the release of which constitute a clearly unwarranted invasion of personal privacy pursuant to 5 U.S.C. 552b(c)(2) and (6).

Further information regarding topics to be discussed, whether the meeting has been canceled or rescheduled, as well as the Chairman's ruling on requests for the opportunity to present oral statements and the time allotted therefor can be obtained by contacting Girija Shukla, Cognizant ACRS staff (301-415-6855), between 7:15 a.m. and 5 p.m. (ET). ACRS meeting agenda, meeting transcripts, and letter reports are available through the NRC Public Document Room at pdr.resource@nrc.gov, or by calling the PDR at 1-800-397-4209, or from the Publicly Available Records System (PARS) component of NRC's document system (ADAMS) which is accessible from the NRC Web site at http://www.nrc.gov/reading-rm/adams.html or http://www.nrc.gov/reading-rm/doc-collections/ACRS/.

Video teleconferencing service is available for observing open sessions of ACRS meetings. Those wishing to use this service for observing ACRS meetings should contact Mr. Theron Brown, ACRS Audio Visual Technician (301-415-8066), between 7:30 a.m. and 3:45 p.m., (ET), at least 10 days before the meeting to ensure the availability of this service. Individuals or organizations requesting this service will be responsible for telephone line charges and for providing the equipment and facilities that they use to establish the video teleconferencing link. The availability of video teleconferencing services is not guaranteed.

Dated: August 19, 2009.
Annette L. Vietti-Cook,
Secretary of the Commission.

[FR Doc. E9-20414 Filed 8-24-09; 8:45 am]

BILLING CODE 7590-01-P